DEPARTMENT OF COMMERCE

Foreign-Trade Zones Board

[Order No. 1822]

Approval for Manufacturing Authority; Foreign-Trade Zone 177; Hoosier Stamping & Mfg. Corp. (Wheel Assemblies and Accessories); Chandler, IN

Pursuant to its authority under the Foreign-Trade Zones Act of June 18, 1934, as amended (19 U.S.C. 81a-81u), the Foreign-Trade Zones Board (the Board) adopts the following Order:

Whereas, the Ports of Indiana, grantee of Foreign-Trade Zone 177, has requested manufacturing authority on behalf of Hoosier Stamping & Mfg. Corp. d/b/a Hoosier Wheel (Hoosier Stamping) within FTZ 177 in Chandler, Indiana, (FTZ Docket 68-2011, filed 10-25-2011);

Whereas, notice inviting public comment has been given in the Federal Register (76 FR 67132-67133, 10-31-2011) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application for manufacturing authority under zone procedures within FTZ 177 on behalf of Hoosier Stamping, as described in the application and Federal Register notice, is approved, subject to the FTZ Act and the Board's regulations, including Section 400.28.

Signed at Washington, DC, this 16th day of April 2012.
Paul Piquado,
Assistant Secretary of Commerce for Import Administration, Alternate Chairman, Foreign-Trade Zones Board.
ATTEST:
Andrew McGilvray,
Executive Secretary.

[FR Doc. 2012-9742 Filed 4-20-12; 8:45 am]

BILLING CODE P